DEPARTMENT OF HEALTH AND HUMAN SERVICES

National Institutes of Health

National Cancer Institute; Amended Notice of Meeting

Notice is hereby given of a change in the meeting of the National Cancer Institute Clinical Trials and Translational Research Advisory Committee, November 4, 2009, 8 a.m. to November 4, 2009, 5 p.m., National Institutes of Health, Building 31, 31 Center Drive, Bethesda, MD 20892, which was published in the Federal Register on August 31, 2009, 74FR44860.

This meeting is amended to adjust the end time to 4 p.m. The meeting is open to the public.

Dated: October 22, 2009.
Jennifer Spaeth,
Director, Office of Federal Advisory Committee Policy.

[FR Doc. E9-25907 Filed 10-27-09; 8:45 am]

BILLING CODE 4140-01-P